ENVIRONMENTAL PROTECTION AGENCY

[EPA-HQ-OPPT-2014-0462; FRL-9912-06]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from October 1, 2013 to January 30, 2014.

DATES: Comments identified by the specific PMN number or TME number, must be received on or before August 6, 2014.

ADDRESSES: Submit your comments, identified by docket identification (ID) number EPA-HQ-OPPT-2014-0462, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Bernice Mudd, Information Management Division (7407M), Office of Pollution Prevention and Toxics, Environmental Protection Agency, 1200 Pennsylvania Ave. NW., Washington, DC 20460-0001; telephone number: (202) 564-8951; email address: Mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This document provides receipt and status reports, which cover the period from October 1, 2013 to January 30, 2014, and consists of the PMNs pending and/or expired, and the NOCs to manufacture a new chemical that the Agency has received under TSCA section 5 during this time period.

III. What is the Agency's authority for taking this action?

Section 5 of TSCA requires that EPA periodically publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—248 PMNs Received From 10/01/13 to 01/30/14
Case No. | Received date | Projected notice end date | Manufacturer/ importer | Use | Chemical
P-13-0953 | 10/01/2013 | 12/30/2013 | CBI | (G) Coating | (G) Modified Refinery Stream.
P-14-0003 | 10/07/2013 | 01/05/2014 | Cardolite Corporation | (S) Epoxy Curing Agent For Coatings | (G) Cashew Nutshell Liquid, Epoxidized, Polymer With Formaldehyde-Phenol Polymer Glycidyl Ether.
P-14-0004 | 10/03/2013 | 01/01/2014 | Cardolite Corporation | (S) Epoxy Binder For Coating Formulations | (S) Phenol, 4,4′-(1-Methylethylidene)Bis-, Polymer With 2,2′-[(1-Methylethylidene)Bis(4,1-Phenyleneoxymethylene)]Bis[Oxirane], Reaction Products With N1,N1-Diethyl-1,3-Propanediamine.
P-14-0005 | 10/07/2013 | 01/05/2014 | CBI | (G) Ingredient In Resin Manufacturing | (G) Acrylonitrile-Acrylate Copolymer.
P-14-0006 | 10/07/2013 | 01/05/2014 | Cardolite Corporation | (S) Epoxy Curing Agent For Light Color Coatings | (G) Fatty Acids, C-18 Unsatd., Dimers, Polymers With Cashew Nutshell Liq., Epichlorohydrin.
P-14-0007 | 10/03/2013 | 01/01/2014 | CBI | (G) Additive For Oil Industry | (G) Fatty Acids, Esters With Polyol.
P-14-0008 | 10/08/2013 | 01/06/2014 | Cardolite Corporation | (S) Epoxy Curing Agent For Light Color Coatings | (G) Fatty Acids, C18-Unsatured, Dimers, Polymers With Bisphenol A, Cashew Nutshell Liq., Epichlorohydrin.
P-14-0009 | 10/04/2013 | 01/02/2014 | Cardolite Corporation | (S) Resin Modifier For Coatings Formulations | (G) Ether Alcohol Of Cashew Nutshell Liquid Novolac.
P-14-0010 | 10/09/2013 | 01/07/2014 | CBI | (G) Intermediate For Silylation | (G) Alkylchlorosilane.
P-14-0011 | 10/18/2013 | 01/16/2014 | CBI | (G) Industrial Coating Applications | (G) Aliphatic Polycarbonate Diol.
P-14-0012 | 10/18/2013 | 01/16/2014 | CBI | (S) Emulsifier For Use In Asphalt Applications | (G) Fatty Acid Amide.
P-14-0013 | 10/18/2013 | 01/16/2014 | CBI | (S) Emulsifier For Use In Asphalt Applications | (G) Fatty Acid Amide.
P-14-0014 | 10/11/2013 | 01/09/2014 | CBI | (G) Resin Additive | (G) Spirobi[1h,6h-Dibenzo Heteropolycyclic],1,1′,15,15′-Tetradehydro.
P-14-0015 | 10/18/2013 | 01/16/2014 | CBI | (S) Emulsifier For Use In Asphalt Applications | (G) Fatty Acid Amide.
P-14-0016 | 10/18/2013 | 01/16/2014 | CBI | (S) Emulsifier For Use In Asphalt Applications | (G) Fatty Acid Amide.
P-14-0017 | 10/18/2013 | 01/16/2014 | CBI | (S) Thermoplastic Polyurethane For Coatings/Mouldings | (S) Carbonic Acid, Dimethyl Ester, Polymer With 1,6-Hexanediol, 1,1′-Methylenebis[4-Isocyanatobenzene] And 2,2′-[1,4-Phenylenebis(Oxy)]Bis-[Ethanol].
P-14-0018 | 10/17/2013 | 01/15/2014 | Huntsman Corporation | (G) This Product Is Used As An Anti-Swelling Additive In Water-Based Drilling Mud To Prevent Wellbore And Formation Damage Due To Clay Swelling | (S) 2-Propanamine, N,N ′-[1,2-Ethanediylbis(Oxy-2,1-Ethanediyl)]Bis-.
P-14-0019 | 10/17/2013 | 01/15/2014 | Huntsman Corporation | (G) This Product Is Used As An Anti-Swelling Additive In Water-Based Drilling Mud To Prevent Wellbore And Formation Damage Due To Clay Swelling | (S) Ethanamine, 2,2′-[1,2-Ethanediylbis(Oxy)]Bis[N-Ethyl-.
P-14-0020 | 10/17/2013 | 01/15/2014 | Allnex USA Inc | (G) Coating Resin | (G) Heteropolycyclic Diacrylate.
P-14-0024 | 10/17/2013 | 01/15/2014 | Allnex USA Inc | (G) Coating Resin | (G) Substituted Fatty Acids, Polymers With Alkanedioic Acid, Substituted Carbomonocycles, Substituted Alkanoates, Alkanediol, Compds. With Substituted Alkanol.
P-14-0025 | 10/14/2013 | 01/12/2014 | CBI | (S) Water Reducing Agent For Use In Concrete | (G) Polyethylene Glycol-Acrylic Polymer Salt.
P-14-0026 | 10/14/2013 | 01/12/2014 | CBI | (G) Fuel Additive | (G) Substituted Maleic Anhydride Polymer.
P-14-0028 | 10/21/2013 | 01/19/2014 | Allnex USA Inc | (G) Intermediate For Coating Resin Manufacture | (G) Substituted Alkene, Reaction Products With Substituted Carbomonocycle.
P-14-0030 | 10/23/2013 | 01/21/2014 | Allnex USA Inc | (G) Coating Resin | (G) Alkyl Substituted Alkanoic Acid-, Alkyl Ester, Polymer With Substituted Alkanoates, Alkyl Peroxide-Initiated.
P-14-0031 | 10/23/2013 | 01/21/2014 | Allnex USA Inc | (G) Coating Resin | (G) Substituted Fatty Acids, Polymers With Alkanedioic Acid, Substituted Carbomonocycles, Substituted Alkanoates, Alkanediol, Compounds, With Substituted Alkanol.
P-14-0032 | 10/24/2013 | 01/22/2014 | CBI | (G) Resin For Waterborne Automotive & Industrial Coatings | (G) Branched Acid Functional Amine Salted Polyester.
P-14-0033 | 10/24/2013 | 01/22/2014 | CBI | (G) Haps Free, Silicone Based Resin For The Manufacture Of Ambient Curing Industrial Coatings, Such As Anti-Corrosion Coatings For Mufflers, Ovens,Chimneys, Oven Inserts, Barbeques And Electric And Gas Heaters As Well As Other Large Industrial Objects And Equipment | (S) Siloxanes And Silicones, Di-Me, Ethoxy Ph, Polymers With Ph Silsesquioxanes, Ethoxy- Terminated.
P-14-0034 | 10/24/2013 | 01/22/2014 | CBI | (G) P0180t Will Be Used As An Additive In Dish Detergent Formulations | (G) Alkyl Acrylate, Polymer With 2-Propenoic Acid, Sodium Salt.
P-14-0035 | 10/24/2013 | 01/22/2014 | CBI | (G) Dish Detergent Additive | (G) Alkyl Acyrlate, Polymer With 2-Propenoic Acid And Sodium 2-Methyl-2-[(1-Oxo-2-Propen-1-Yl)Amino]-1-Propanesulfonate (1:1), Sodium Salt.
P-14-0036 | 10/28/2013 | 01/26/2014 | Allnex USA Inc | (S) Coating Resin For Automobile Parts | (G) Substituted Alkanoic Acid Ester, Polymer With Alkyl Substituted Alkanoate, Substituted Carbomonocycle, Substituted Alkanoates And Heteromonocycle, Substituted Peroxoate-Initiated.
P-14-0037 | 10/28/2013 | 01/26/2014 | Allnex USA Inc | (S) Coating Resin For Automobile Parts | (G) Substituted Alkanoic Acid Ester, Polymer With Alkyl Substituted Alkanoate, Substituted Carbomonocycle, Substituted Alkanoates, Heteromonocycle And Alkanoic Acid, Substituted Peroxoate-Initiated, Compounds With Substituted Alkanol.
P-14-0039 | 10/29/2013 | 01/27/2014 | CBI | (G) Fabric Softener Additive | (G) Quaternized Protein/Silicone Copolymer.
P-14-0040 | 10/29/2013 | 01/27/2014 | CBI | (G) Reaction Intermediate | (G) Polyethylene Glycol Derivative.
P-14-0041 | 10/29/2013 | 01/27/2014 | CBI | (G) Reaction Intermediate | (G) Polyethylene Glycol Derivative.
P-14-0042 | 10/29/2013 | 01/27/2014 | CBI | (G) Surfactant For Laboratory Use Fluid | (G) Fluorosurfactant.
P-14-0043 | 10/30/2013 | 01/28/2014 | CBI | (S) Curing Agent For Use In Adhesives, Coatings, And Sealants; Drying Agent For Use In Adhesives And Sealants | (G) Polypropylene Glycol Amine Adduct.
P-14-0044 | 10/30/2013 | 01/28/2014 | CBI | (G) Polymer Dispersant Admixture | (G) Modified Ketone Resin, Sodium Salt.
P-14-0045 | 10/30/2013 | 01/28/2014 | Allnex USA Inc | (S) Ultra violet Curable Coating Resin For Printing Inks | (G) Substituted Alkanediol, Polymer With Substituted Heteromonocycle And Heteromoncycle, Alkenoate, Reaction Products With Dialkylamine.
P-14-0046 | 10/29/2013 | 01/27/2014 | CBI | (G) Pigment Dispersant For Use In Inks And Coatings | (G) Polyester Polyethyleneimine Copolymer.
P-14-0049 | 10/31/2013 | 01/29/2014 | CBI | (S) Filler | (G) Treated Silica.
P-14-0050 | 10/31/2013 | 01/29/2014 | H.B. Fuller Company | (G) Industrial Adhesive | (G) Fatty Acids, C18-Unsaturated, Dimers, Polymers With Alkane Acid, 1,6-Hexanediol, 1,1′-Methylenebis[Isocyanatobenzene] And Neopentyl Glycol.
P-14-0051 | 10/31/2013 | 01/29/2014 | H.B. Fuller Company | (G) Industrial Adhesive | (G) Fatty Acids, C18-Unsatd., Dimers, Polymers With Alkane Acid, 1,6-Hexanediol, 1,1′-Methylenebis[4-Isocyanatobenzene] And Neopentyl Glycol.
P-14-0052 | 10/31/2013 | 01/29/2014 | CBI | (S) Crosslinker For Automotive Coatings, Crosslinker For Wood And Plastic Coatings | (G) Polymer Modified Multifunctional Silane.
P-14-0053 | 10/31/2013 | 01/29/2014 | Takasago | (S) Fragrance In Deodorants And Cosmetics, Fragrance In Fine Fragrance, Fragrance In Household Products Such As Laundry Detergents And Air Fresheners, Fragrance In Shampoos And Body Washes | (S) 2-Pentanone, 3-Methyl-5-(2,2,3-Trimethylcyclopentyl)-.
P-14-0054 | 10/31/2013 | 01/29/2014 | CBI | (G) Destructive Use, Will Be Used As A Monomer To Synthesize Other Polymers And Be Completely Consumed In The Polymer Synthesis Process | (G) Amine-Functional Oligomer.
P-14-0055 | 10/31/2013 | 01/29/2014 | Takasago | (S) Fragrance In Deodorants And Cosmetics, Fragrance In Fine Fragrance, Fragrance In Household Products Such As Laundry Detergents And Air Fresheners, Fragrance In Shampoos, Body Wash | (S) Cyclohexanecarboxylic Acid, 2,2,6-Trimethyl-,2-Propen-1-Yl Ester.
P-14-0056 | 10/31/2013 | 01/29/2014 | Jotun Paints Inc | (G) A Curing Agent Or Hardener For A 2-Component Liquid | (G) 4,4′-(1-Methylethylidene)Bisphenol, Polymer With (Chloromethyl)Oxirane and Diamines.
P-14-0057 | 10/31/2013 | 01/29/2014 | CBI | (G) Industrial Feedstock Chemical | (G) Glycerides, C8-18 and C18 Unsaturated, From Fermentation.
P-14-0058 | 11/01/2013 | 01/30/2014 | CBI | (S) Flame Retardant Additive For Use In Electronic Parts | (G) Alkylphosphinic Acid.
P-14-0059 | 11/01/2013 | 01/30/2014 | Henkel Corporation | (S) Catalyst Used To Prepare Site Limited Chemical Intermediate To Cureable Monomer (P-13-0468) | (S) Tris (Triphenylphosphine)Dichlororuthenium (Ii).
P-14-0060 | 11/01/2013 | 01/30/2014 | CBI | (G) Coating Component | (G) 1,1′-Methylenebis[Isocyanatobenzene], Polymer With Polycarboxylic Acids In Alkane Polyols.
P-14-0061 | 11/01/2013 | 01/30/2014 | CBI | (G) Additive, Open, Non-Dispersive Use | (G) Dicarboxylic Acid, Polymer With Alkanediol, Diester With Alkylalcohols.
P-14-0062 | 11/04/2013 | 02/02/2014 | CBI | (G) Coatings | (G) Heteropolycycle, Polymer With Substituted Diols And Polyalkyl Alkanoate.
P-14-0063 | 11/05/2013 | 02/03/2014 | Shell Chemical LP | (S) Wax Applications, Such As For burning Candles | (S) Alkenes, C30-60, Branched And Linear.
P-14-0066 | 11/06/2013 | 02/04/2014 | Baze Chemical Company | (S) Water Clarifier Intermediate | (S) 1,6-Hexanediamine, N1-(6-Aminohexyl)-,Polymer With 2-(Choloromethyl) Oxirane,N-(Dithiocarboxy) Derivs., Sodium Salts.
P-14-0067 | 11/06/2013 | 02/04/2014 | 3M Company | (G) Polymer Additive | (G) Fluoroalkyl Derivative.
P-14-0068 | 11/06/2013 | 02/04/2014 | CBI | (S) Crosslinker For Radiation Cured Adhesive | (G) Urethane Acrylate.
P-14-0069 | 11/06/2013 | 02/04/2014 | CBI | (G) Material For Molding Electronic Parts | (G) Aromatic Polyester Resin.
P-14-0070 | 11/07/2013 | 02/05/2014 | Cathay Industrial Biotech, Ltd | (S) As a Monomer For Polyamides | (S) 1,5-Pentanediamine.
P-14-0071 | 11/07/2013 | 02/05/2014 | CBI | (G) Reaction Intermediate | (G) Polyethylene Glycol Derivative.
P-14-0072 | 11/06/2013 | 02/04/2014 | CBI | (S) Polymerization Initiator For The Production Of Low Density Polyethylene (Ldpe) Resin, Polymerization Initiator For The Production Of Polyvinyl Chloride (Pvc) Resin | (S) Propaneperoxoic Acid, 2,2-Dimethyl-, 1,1,3,3-Tetramethylbutyl Ester.
P-14-0073 | 11/10/2013 | 02/08/2014 | CBI | (G) Manufacturing Intermediate | (G) Fluorinated Alcohol.
P-14-0074 | 11/11/2013 | 02/09/2014 | CBI | (G) Acrylate Component In Inks, Coatings, Adhesives | (G) Amino Acrylate Oligomer.
P-14-0075 | 11/12/2013 | 02/10/2014 | CBI | (S) Flame Retardant Additive For Use In Electronic Parts | (G) Alkylphosphinic Acid.
P-14-0076 | 11/12/2013 | 02/10/2014 | Calumet Lubricants Co., LP | (S) Polyol Esters For Use In General Purpose Industrial Lubricants And Refrigeration Compressors | (G) Polyol Esters.
P-14-0077 | 11/12/2013 | 02/10/2014 | Calumet Lubricants Co., LP | (S) Polyol Esters,(S) Polyol Esters For Use In General Purpose Industrial Lubricants And Refrigeration Compressors | (G) Polyol Ester.
P-14-0078 | 11/12/2013 | 02/10/2014 | Calumet Lubricants Co., LP | (S) Polyol Esters,(S) Polyol Esters For Use In General Purpose Industrial Lubricants And Refrigeration Compressors | (G) Polyol Ester.
P-14-0079 | 11/12/2013 | 02/10/2014 | Calumet Lubricants Co., LP | (S) Polyol Esters,(S) Polyol Esters For Use In General Purpose Industrial Lubricants And Refrigeration Compressors | (G) Polyol Ester.
P-14-0080 | 11/13/2013 | 02/11/2014 | CBI | (G) Surface Tension Reducer For Metal And Plastic Plating Processes | (G) Substituted Alkyl Phosphinic Acid.
P-14-0082 | 11/13/2013 | 02/11/2014 | Zeon Chemicals LP | (G) polycycloolefin-L-15 | (G) polycycloolefin-L-15.
P-14-0088 | 11/15/2013 | 02/13/2014 | CBI | (G) Polymer Additive | (G) Mixed Alkyl Dicarboxylic Acid Esters.
P-14-0089 | 11/15/2013 | 02/13/2014 | CBI | (S) Surfactant For Use In Asphalt Emulsions | (G) Fatty Acid Amide Hydrochloride.
P-14-0090 | 11/15/2013 | 02/13/2014 | CBI | (S) Surfactant For Use In Asphalt Emulsions | (G) Fatty Acid Amide Hydrochloride.
P-14-0091 | 11/15/2013 | 02/13/2014 | CBI | (S) Surfactant For Use In Asphalt Emulsions | (G) Fatty Acid Amide Hydrochloride.
P-14-0092 | 11/15/2013 | 02/13/2014 | CBI | (S) Surfactant For Use In Asphalt Emulsions | (G) Fatty Acid Amide Hydrochloride.
P-14-0093 | 11/18/2013 | 02/16/2014 | CBI | (G) Resin For Coatings | (G) Phenol, Bis Alkylalylidene-, Polymer With Haloalkyl Hetermonocycle, Alkylhexanoate, Reaction Products With Substituted Amines.
P-14-0094 | 11/18/2013 | 02/16/2014 | CBI | (G) Crosslinking Agent | (G) Substituted Polyalkylene Polycarbomonocyclic Ester, 2-Alkoxyethanol- And Dialkylene Glycol Alkyl Ether-Blocked.
P-14-0095 | 11/18/2013 | 02/16/2014 | CBI | (G) Resin For Coatings | (G) Dihydroxyalkyl Alkanol, Polymer With Disubstituted Alkane, Ketoxime-Blocked.
P-14-0096 | 11/18/2013 | 02/16/2014 | CBI | (S) Intermediate | (G) Aryloxyalkyl Amine.
P-14-0097 | 11/18/2013 | 02/16/2014 | CBI | (S) Intermediate | (G) Polyalkylene Polymer, Anhydride Reaction Products.
P-14-0098 | 11/18/2013 | 02/16/2014 | CBI | (G) Lubricating Oil Additive | (G) Polyalkylene Polymer, Anhydride Reaction Products, Imidated.
P-14-0100 | 11/20/2013 | 02/18/2014 | CBI | (S) Pesticide Inert Formulation Ingredient | (G) Polymerized Fatty Acid Esters With Aminoalcohol Alkoxylates.
P-14-0101 | 11/20/2013 | 02/18/2014 | CBI | (S) Pesticide Inert Formulation Ingredient | (G) Polymerized Fatty Acid Esters With Aminoalcohol Alkoxylates.
P-14-0102 | 11/20/2013 | 02/18/2014 | CBI | (S) Pesticide Inert Formulation Ingredient | (G) Polymerized Fatty Acid Esters With Aminoalcohol Alkoxylates.
P-14-0103 | 11/20/2013 | 02/18/2014 | CBI | (S) Pesticide Inert Formulation Ingredient | (G) Polymerized Fatty Acid Esters With Aminoalcohol Alkoxylates.
P-14-0104 | 11/20/2013 | 02/18/2014 | CBI | (G) Industrial Feedstock Chemical | (G) Glycerides, C8-18 And C18 Unsaturated, From Fermentation.
P-14-0105 | 11/21/2013 | 02/19/2014 | H.B. Fuller Company | (G) Industrial Adhesive | (G) Methylene Diisocyanate Polymer With Diols And Triols.
P-14-0106 | 11/21/2013 | 02/19/2014 | CBI | (G) Chemical Intermediate; Oilfield Production | (G) Blown Polymerized Fatty Acid.
P-14-0107 | 11/21/2013 | 02/19/2014 | CBI | (G) Chemical Intermediate; Oilfield Production | (G) Blown Polymerized Fatty Acid.
P-14-0108 | 11/21/2013 | 02/19/2014 | Huntsman | (G) Curing Agent | (G) Fatty acids, C16-18 AND C18-unsaturated branched and linear polymers with ethyleneamines.
P-14-0109 | 11/22/2013 | 02/20/2014 | H.B. Fuller | (G) Industrial Adhesive | (G) 2-Propenoic Acid, 2-Methyl-, Ester, Polymer With Butyl 2-Propenoate, Ethenyl Alkanoate, Ethenylbenzene, 2-Ethylhexyl 2-Propenoate And Alkanediol.
P-14-0110 | 11/24/2013 | 02/22/2014 | Palmer International Inc | (G) The Product Would Be Used As A Polyol To Be | (S) Cashew, Nutshell Liquid, Polymer With Formaldehyde, Reaction Products With Diethanolamine And Diisopropanolamine.
P-14-0111 | 11/24/2013 | 02/22/2014 | CBI | (G) Adhesive For Open Non-Descriptive Use | (G) Polyurethane Polymer.
P-14-0112 | 11/25/2013 | 02/23/2014 | CBI | (G) P0182t Is A Lubricant Additive | (G) Amides, From Polyethylenepolyamines And Fatty Acids, Reaction Products With Acid Anhydride Monopolyisobutylene Derivs.
P-14-0113 | 11/26/2013 | 02/24/2014 | Palmer International Inc | (G) The Product Would Be Used As A Polyol To Be Reacted With Polyisocyanates To Create Polyurethane Foam | (S) Cashew, Nutshell Liquid, Polymer With Formaldehyde, Reaction Products With Diethanolamine And Diisopropanolamine.
P-14-0114 | 11/26/2013 | 02/24/2014 | CBI | (S) Ultra violet Curable Waterborne Urethane For Direct-To-Metal Coatings | (G) Waterborne Acrylate-Functional Polyurethane.
P-14-0123 | 11/29/2013 | 02/27/2014 | CBI | (S) Acrylic Resin Used In Ultra violet Curable Inks And Coatings | (G) Reaction Product Of Acrylate And Isocyanate.
P-14-0124 | 12/02/2013 | 03/02/2014 | CBI | (G) Polymer Intermediate Used In Extrusion And Moulding | (G) Graft Copolymer Of Polyolefin And Polyamide.
P-14-0125 | 12/02/2013 | 03/02/2014 | Colonial Chemical, Inc | (G) Chemical Intermediate For Sale Into Commerce | (S) 1-Octadecanaminium, N-(3-Chloro-2-Hydroxypropyl)-N, N-Dimethyl-,Chloride (1:1).
P-14-0126 | 12/03/2013 | 03/03/2014 | CBI | (G) Component Of Colorant For Polyurethane Resins | (G) Substituted Fatty Acid Amide, Polymer With Disubstituted Alkyl Carbomonocycle Disubstituted Alcohol And Alkoxylated Polyol.
P-14-0128 | 12/03/2013 | 03/03/2014 | CBI | (G) The New Substance Is Intended For Use As A Binder For Industrial Waterborne Coating Applications | (G) Alkyl Methacrylate Polymer With Alkyl Acrylate, Bis(2,3-Heteromonocyclicalkoxy) -2,2-Dialkylpropane, Vinyl Aromatic, Propenoic Acid Esters With C12-14-Alkyloxy 1,2 Alkyldiol, Amine Salts.
P-14-0129 | 12/03/2013 | 03/03/2014 | CBI | (G) A Solvent In Pesticide Formulations | (G) Carboxylic Acid Alkyl Amide.
P-14-0130 | 12/04/2013 | 03/04/2014 | Shell Chemical LP | (S) Coatings; Cleaning Fluids; Agrochemicals; Metal Working Fluids/Rolling Oils; Sold As Intermediate | (S) Alkanes C15-19 Branched And Linear.
P-14-0131 | 12/04/2013 | 03/04/2014 | Shell Chemical LP | (S) Coatings; Cleaning Fluids; Agrochemicals; Metal Working Fluids/Rolling Oils; Sold As Intermediate | (S) Alkanes C18-C24 Branched And Linear.
P-14-0132 | 12/04/2013 | 03/04/2014 | Shell Chemical LP | (S) Coatings; Cleaning Fluids; Agrochemicals; Metal Working Fluids/Rolling Oils | (S) Alkanes, C8-11-Branched And Linear.
P-14-0133 | 12/04/2013 | 03/04/2014 | Shell Chemical LP | (S) Coatings; Cleaning Fluids; Agrochemicals; Metal Working Fluids/Rolling Oils; Sold As Intermediate | (S) Alkanes, C9-12 Branched And Linear.
P-14-0134 | 12/04/2013 | 03/04/2014 | Shell Chemical LP | (S) Coatings; Cleaning Fluids; Agrochemicals; Metal Working Fluids/Rolling Oils; Sold As Intermediate | (S) Alkanes, C9-13 Branched And Linear.
P-14-0135 | 12/04/2013 | 03/04/2014 | Shell Chemical LP | (S) Coatings; Cleaning Fluids; Agrochemicals; Metal Working Fluids/Rolling Oils; Sold As Intermediate | (S) Alkanes, C10-13 Branched And Linear.
P-14-0136 | 12/04/2013 | 03/04/2014 | Shell Chemical LP | (S) Coatings; Cleaning Fluids; Agrochemicals; Metal Working Fluids/Rolling Oils; Sold As Intermediate | (S) Alkanes, C12-15 Branched And Linear.
P-14-0137 | 12/04/2013 | 03/04/2014 | Shell Chemical LP | (S) Coatings; Cleaning Fluids; Agrochemicals; Metal Working Fluids/Rolling Oils; Sold As Intermediate | (S) Alkanes, C14-16 Branched And Linear.
P-14-0138 | 12/04/2013 | 03/04/2014 | DIC International (USA) LLC | (G) Material Serves As Part Of A coating which is Laminated To textiles by adhesives to create the artificial leather | (G) Polycarbonate-Based Polyurethane Resin.
P-14-0139 | 12/04/2013 | 03/04/2014 | CBI | (G) Open, Non-Dispersive Use | (G) Alkylheterocyclic Amine Blocked Isocyanate, Alkoxysilane Polymer.
P-14-0140 | 12/04/2013 | 03/04/2014 | CBI | (G) Reactant For Synthesis Of Chemicals, Mixed With Like Substances And Sold ‘As Is’ To Customers | (G) Polysilane.
P-14-0141 | 12/04/2013 | 03/04/2014 | CBI | (G) Reactant For Synthesis Of Chemicals, Mixed With Like Substances And Sold ‘As Is’ To Customers | (G) Polysilane.
P-14-0142 | 12/04/2013 | 03/04/2014 | CBI | (G) Product Will Be Used As A Demulsifier In crude oil Emulsions In oil field operations And a salter in crude oil refineries | (G) Ethoxylated Resin In Solvent.
P-14-0143 | 12/06/2013 | 03/06/2014 | CBI | (G) Ingredient Used In Pigment Synthesis | (G) Alkanaminium, Substituted Carbomonocycle Alkylamino)Carbomonocycle]Alkylene]-Substituted Carbomonocycle, Carboxylate Salt.
P-14-0144 | 12/10/2013 | 03/10/2014 | CBI | (G) Additive Used In Ink Formulations | (G) 2-Alkenoic Acid, 2-Alkyl-, Polymer With 2-Substitutedalkyl 2-Alkyl-2-Alkenoate And Alkyl Substituted Carbomonocycle 2-Alkyl-2-Alkenoate.
P-14-0145 | 12/11/2013 | 03/11/2014 | DIC International (USA) LLC | (G) Lighfastness Stabilizing Agent Used In The Manufacture Of Artificial Leather | (G) Alkandiol, Polymer With Aralkyl Polyisocyanate, Amine-Blocked.
P-14-0146 | 12/11/2013 | 03/11/2014 | CBI | (G) Component Of Lighting And Personal Digital Devices | (G) Mixed Metal Fluoride Silicide.
P-14-0147 | 12/12/2013 | 03/12/2014 | CBI | (G) Textiles | (S) 1,2,3-Propanetriol, Mono- And Diformates.
P-14-0148 | 12/12/2013 | 03/12/2014 | CBI | (G) Open, Non-Dispersive Use | (G) Hydroxy-Functional Siloxane.
P-14-0149 | 12/15/2013 | 03/15/2014 | Greenox Catalysts, Inc | (S) Oxidant activatorfor use in cleaning products. Oxidant activator for use in water treatment applications. Oxidant activator for use in chemical synthesis | (G) Tetraamido-macrocylic ligand (TAML).
P-14-0150 | 12/16/2013 | 03/16/2014 | CBI | (S) Chemical Intermediate.; Additive For Flotation Product; adhesion promoter for use in asphalt application | (G) Fatty Acid Amide.
P-14-0151 | 12/16/2013 | 03/16/2014 | CBI | (S) Chemical Intermediate.; Additive For Flotation Products; adhesion promoter for use in asphalt application | (G) Fatty Acid Amide.
P-14-0152 | 12/16/2013 | 03/16/2014 | CBI | (S) Chemical Intermediate.; Additive For Flotation Products; adhesion promoter for use in asphalt application | (G) Fatty Acid Amide.
P-14-0153 | 12/16/2013 | 03/16/2014 | CBI | (S) Chemical Intermediate.; Additive For Flotation Products: adhesion promoter for use in asphalt application | (G) Fatty Acid Amide.
P-14-0154 | 12/16/2013 | 03/16/2014 | CBI | (S) Chemical Intermediate.; Additive For Flotation Products: adhesion promoter for use in asphalt application | (G) Fatty Acid Amide.
P-14-0155 | 12/16/2013 | 03/16/2014 | CBI | (S) Chemical Intermediate.; Additive For Flotation Products: adhesion promoter for use in asphalt application | (G) Fatty Acid Amide.
P-14-0156 | 12/16/2013 | 03/16/2014 | CBI | (S) Chemical Intermediate.; Additive For Flotation Products; adhesion promoter for use in asphalt application | (G) Fatty Acid Amide.
P-14-0157 | 12/13/2013 | 03/13/2014 | Allnex USA Inc | (G) Coating Resin Additive | (G) Substituted Carbomonocycles, Polymers With, Haloalkyl Substituted Heteromonocycle, Alkylaldehye-Substituted Carbomonocycle Polymer Glycidyl ether and polyualklenene glycol, reaction products with alkyl substitute glycidyl ether.
P-14-0158 | 12/16/2013 | 03/16/2014 | CBI | (S) Additive For Flotation Products, Chemical Intermediate | (G) Fatty Acid Amide.
P-14-0159 | 12/16/2013 | 03/16/2014 | CBI | (S) Additive For Flotation Products, Chemical Intermediate | (G) Fatty Acid Amide.
P-14-0160 | 12/16/2013 | 03/16/2014 | CBI | (S) Additive For Flotation Products, Chemical Intermediate | (G) Fatty Acid Amide.
P-14-0161 | 12/16/2013 | 03/16/2014 | CBI | (S) Additive For Flotation Products, Chemical Intermediate | (G) Fatty Acid Amide.
P-14-0162 | 12/16/2013 | 03/16/2014 | CBI | (S) Additive For Flotation Products, Chemical Intermediate | (G) Fatty Acid Amide.
P-14-0163 | 12/16/2013 | 03/16/2014 | CBI | (S) Additive For Flotation Products, Chemical Intermediate | (G) Fatty Acid Amide.
P-14-0165 | 12/16/2013 | 03/16/2014 | CBI | (S) Additive For Flotation Products, Adhesion Promoter For Use In Asphalt Applications, Chemical Intermediate | (G) Fatty Acid Amide.
P-14-0166 | 12/16/2013 | 03/16/2014 | CBI | (S) Additive For Flotation Products, Adhesion Promoter For Use In Asphalt Applications, Chemical Intermediate | (G) Fatty Acid Amide.
P-14-0167 | 12/16/2013 | 03/16/2014 | CBI | (G) Catalyst In Grind Vehicle For Pigment Paste | (G) Organic Acid, Compounds With Epoxy Polymer Branched Phenyl Ethers-Guanidine-Aminoethanol Reaction Products.
P-14-0168 | 12/16/2013 | 03/16/2014 | CBI | (G) Catalyst In Grind Vehicle For Pigment Paste | (G) Epoxy Polymer Branched Phenyl Ethers, Reaction Products With Guanidine And Aminoethanol, Organic Acid Salts.
P-14-0169 | 12/16/2013 | 03/16/2014 | CBI | (G) Catalyst In Grind Vehicle For Pigment Paste | (G) Organic Acid Compounds With Epoxy Polymer Branched Phenyl Ethers- Guanidine-Aminoethanol Reaction Products.
P-14-0170 | 12/16/2013 | 03/16/2014 | CBI | (G) Catalyst In Grind Vehicle For Pigment Paste | (G) Organic Acid, Compounds With Epoxy Polymer—Guanidine-Aminoethanol Reaction Products.
P-14-0171 | 12/16/2013 | 03/16/2014 | CBI | (G) Catalyst In Grind Vehicle For Pigment Paste | (G) Epoxy Polymer, Reaction Products With Guanidine And Aminoethanol, Organic Acid Salts.
P-14-0172 | 12/16/2013 | 03/16/2014 | CBI | (G) Catalyst In Grind Vehicle For Pigment Paste | (G) Organic Acid Compounds With Epoxy Polymer—Guanidine-Aminoethanol Reaction Products.
P-14-0173 | 12/17/2013 | 03/17/2014 | CBI | (S) Flotation Additive For Use In Mineral Processing | (G) Fatty Acid Amide Acetate.
P-14-0174 | 12/17/2013 | 03/17/2014 | CBI | (S) Flotation Additive For Use In Mineral Processing | (G) Fatty Acid Amide Acetate.
P-14-0175 | 12/17/2013 | 03/17/2014 | CBI | (S) Flotation Additive For Use In Mineral Processing | (G) Fatty Acid Amide Acetate.
P-14-0176 | 12/17/2013 | 03/17/2014 | CBI | (S) Flotation Additive For Use In Mineral Processing | (G) Fatty Acid Amide Acetate.
P-14-0177 | 12/17/2013 | 03/17/2014 | CBI | (S) Flotation Additive For Use In Mineral Processing | (G) Fatty Acid Amide Acetate.
P-14-0178 | 12/17/2013 | 03/17/2014 | CBI | (S) Flotation Additive For Use In Mineral Processing | (G) Fatty Acid Amide Acetate.
P-14-0179 | 12/17/2013 | 03/17/2014 | CBI | (S) Flotation Additive For Use In Mineral Processing | (G) Fatty Acid Amide Acetate.
P-14-0180 | 12/17/2013 | 03/17/2014 | CBI | (S) Flotation Additive For Use In Mineral Processing | (G) Fatty Acid Amide Acetate.
P-14-0181 | 12/17/2013 | 03/17/2014 | CBI | (S) Flotation Additive For Use In Mineral Processing | (G) Fatty Acid Amide Acetate.
P-14-0182 | 12/17/2013 | 03/17/2014 | CBI | (S) Flotation Additive For Use In Mineral Processing | (G) Fatty Acid Amide Acetate.
P-14-0183 | 12/17/2013 | 03/17/2014 | CBI | (S) Flotation Additive For Use In Mineral Processing | (G) Fatty Acid Amide Acetate.
P-14-0184 | 12/17/2013 | 03/17/2014 | CBI | (S) Flotation Additive For Use In Mineral Processing | (G) Fatty Acid Amide Acetate.
P-14-0185 | 12/17/2013 | 03/17/2014 | CBI | (S) Flotation Additive For Use In Mineral Processing | (G) Fatty Acid Amide Acetate.
P-14-0186 | 12/17/2013 | 03/17/2014 | CBI | (S) Flotation Additive For Use In Mineral Processing | (G) Fatty Acid Amide Acetate.
P-14-0187 | 12/17/2013 | 03/17/2014 | CBI | (S) Flotation Additive For Use In Mineral Processing | (G) Fatty Acid Amide Acetate.
P-14-0188 | 12/17/2013 | 03/17/2014 | CBI | (S) Flotation Additive For Use In Mineral Processing | (G) Fatty Acid Amide Acetate.
P-14-0189 | 12/17/2013 | 03/17/2014 | CBI | (S) Flotation Additive For Use In Mineral Processing | (G) Fatty Acid Amide Acetate.
P-14-0190 | 12/17/2013 | 03/17/2014 | CBI | (S) Flotation Additive For Use In Mineral Processing | (G) Fatty Acid Amide Acetate.
P-14-0191 | 12/17/2013 | 03/17/2014 | CBI | (S) Flotation Additive For Use In Mineral Processing | (G) Fatty Acid Amide Acetate.
P-14-0192 | 12/17/2013 | 03/17/2014 | CBI | (S) Flotation Additive For Use In Mineral Processing | (G) Fatty Acid Amide Acetate.
P-14-0193 | 12/17/2013 | 03/17/2014 | CBI | (S) Flotation Additive For Use In Mineral Processing | (G) Fatty Acid Amide Acetate.
P-14-0195 | 12/18/2013 | 03/18/2014 | CBI | (G) Polyol Component Used In Polyurethane Production | (G) Aaspartic Ester Resin.
P-14-0196 | 12/18/2013 | 03/18/2014 | CBI | (G) Polymerization Additive | (G) Poly(Oxy-1,2-Ethanediyl), .Alpha.-Sulfo-.Omega.-Substituted Carbomonocycle, Ammonium Salts.
P-14-0197 | 12/18/2013 | 03/18/2014 | CBI | (G) Open, Non-Dispersive | (G) Carboxylic Ester.
P-14-0198 | 12/19/2013 | 03/19/2014 | CBI | (G) Color Developer For General Printing Applications | (G) Trialkylammonium Borodibenzoate.
P-14-0199 | 12/19/2013 | 03/19/2014 | CBI | (G) Electric Application | (G) 1-Alkyl-Alkylpyrrolidinium Tetrahalogenborate.
P-14-0200 | 12/19/2013 | 03/19/2014 | CBI | (G) Adhesive For Open, Non-Descriptive Use | (G) Isocyanate Terminated Polyurethane Resin.
P-14-0201 | 12/20/2013 | 03/20/2014 | PMC Organometallix | (G) Chemical Intermediate | (G) 2-Mercaptoethyl Fatty Acid Ester.
P-14-0202 | 12/20/2013 | 03/20/2014 | CBI | (G) Emulsifier | (G) Fatty Acid Imidazolines.
P-14-0203 | 12/20/2013 | 03/20/2014 | CBI | (G) Emulsifier | (G) Fatty Acid Imidazolines.
P-14-0204 | 12/20/2013 | 03/20/2014 | CBI | (G) Emulsifier | (G) Fatty Acid Imidazolines.
P-14-0205 | 12/20/2013 | 03/20/2014 | CBI | (G) Emulsifier | (G) Fatty Acid Imidazolines.
P-14-0206 | 12/20/2013 | 03/20/2014 | CBI | (G) Emulsifier | (G) Fatty Acid Imidazolines.
P-14-0207 | 12/23/2013 | 03/23/2014 | CBI | (G) PMN Substance Is A Hydroxy Terminated Polyester To Be Used Foam Slabstock | (G) Aromatic Polyester.
P-14-0208 | 12/23/2013 | 03/23/2014 | CBI | (G) Preservative Resin For Wood Products | (G) Amine-Aldehyde-Urea Resin.
P-14-0209 | 12/26/2013 | 03/26/2014 | CBI | (G) Antifoam Additive For FIFRA Controlled Agricultural Products | (G) Amide.
P-14-0210 | 12/26/2013 | 03/26/2014 | CBI | (G) Ore Beneficiation | (G) Amides, From Fatty Acid And Diethylenetriamine, Acetates.
P-14-0211 | 12/26/2013 | 03/26/2014 | CBI | (G) Ore Beneficiation | (G) Amides, From Vegetable Oil And Diethylenetriamine, Acetates.
P-14-0212 | 12/26/2013 | 03/26/2014 | CBI | (G) Ore Beneficiation | (G) Amides, From Fatty Acids And Diethylenetriamine, Hydrochlorides.
P-14-0213 | 12/26/2013 | 03/26/2014 | CBI | (G) Ore Beneficiation | (G) Amides, From Fatty Acids And Diethylenetriamine, Formates.
P-14-0214 | 12/26/2013 | 03/26/2014 | CBI | (G) Ore Beneficiation | (G) Amides, From Vegetable Oil And Diethylenetriamine, Hydrochlorides.
P-14-0215 | 12/26/2013 | 03/26/2014 | CBI | (G) Ore Beneficiation | (G) Amides, From Vegetable Oil And Diethylenetriamine, Formates.
P-14-0216 | 12/30/2013 | 03/30/2014 | PMC Organometallix | (S) Stabilizer For Pvc | (G) Mixed Alkyltin Mercaptoester Sulfides.
P-14-0217 | 12/30/2013 | 03/30/2014 | PMC Organometallix | (S) Stabilizer For Pvc | (G) Mixed Alkyltin Mercaptoester Sulfides.
P-14-0218 | 12/30/2013 | 03/30/2014 | PMC Organometallix | (S) Stabilizer For Pvc | (G) Mixed Alkyltin Mercaptoester Sulfides.
P-14-0219 | 12/30/2013 | 03/30/2014 | CBI | (G) Crosslinker For Coatings | (G) Polyurethane Dispersion.
P-14-0220 | 12/30/2013 | 03/30/2014 | TFL USA Canada, Inc | (G) Industrial Leather Softener | (G) Sulfosuccinic Acid Ester, Alkylamin Derivates, Sodium Salt.
P-14-0225 | 12/31/2013 | 03/31/2014 | Organometallix | (S) Stabilizer For Pvc | (G) Mixed Alkylmetallic Mercaptoester Sulfides.
P-14-0226 | 12/31/2013 | 03/31/2014 | Organometallix | (S) Stabilizer For Pvc | (G) Mixed Alkylmetallic Mercaptoester Sulfides.
P-14-0227 | 01/02/2014 | 04/02/2014 | Firmenich Inc | (G) Fragrance Ingredient For The Use In Consumer Products | (S) Carbonic Acid, 2-Methoxy-4-Methylphenyl Methyl Ester.
P-14-0228 | 01/06/2014 | 04/06/2014 | The John D. Walsh Company, Inc | (S) Fragrance Ingredient For Laundry Applications; Fragrance Ingredient For Household Applications; Fragrance Ingredient For Personal Care | (S) 1-Butanol, 4-Cyclohexylidene-3-Methyl-, 1-Cyclohexene-1-Butanol, -Methyl-.
P-14-0229 | 01/06/2014 | 04/06/2014 | The John D. Walsh Company, Inc | (S) Fragrance Ingredient For Laundry Applications; Fragrance Ingredient For Household Applications; Fragrance Ingredient For Personal Care | (S) 1-Butanol, 4-Cyclohexylidene-3-Methyl-, 1-Cyclohexene-1-Butanol, -Methyl-.
P-14-0231 | 01/06/2014 | 04/06/2014 | PMC Organometallix | (S) Stabilizer For Pvc | (G) Mixed Alkylmetallic Mercaptoester Sulfides.
P-14-0232 | 01/06/2014 | 04/06/2014 | PMC Organometallix | (S) Stabilizer For Pvc | (G) Mixed Alkylmetallic Mercaptoester Sulfides.
P-14-0234 | 01/07/2014 | 04/07/2014 | CBI | (G) Dispersant | (G) Polyoxyethylene(14)Tribenzylated Phenyl Ether.
P-14-0235 | 01/07/2014 | 04/07/2014 | CBI | (G) Additive, Open, Non-Dispersive Use | (G) Styrene-Maleic Anhydride Copolymer, Reaction Product With Amino Compounds.
P-14-0236 | 01/08/2014 | 04/08/2014 | CBI | (G) Semiconductor Additive | (G) Formaldehyde, Polymer With Substituted Carbopolycycle And Substituted Carbopolycycle.
P-14-0240 | 01/09/2014 | 04/09/2014 | Maroon Inc | (S) Antioxident (Plastics) | (S) Amines, Bis(Hydrogenated Palm-Oil Alkyl)Hydroxyl.
P-14-0241 | 01/10/2014 | 04/10/2014 | Miwon North America, Inc | (S) Resins For Industrial Coating | (G) Urethane Acrylate.
P-14-0242 | 01/10/2014 | 04/10/2014 | CBI | (G) Gelling Agent For Oil Field Use | (G) Citric Acid, Isopropanolamine Metal Complexes.
P-14-0244 | 01/10/2014 | 04/10/2014 | CBI | (S) Dispersent | (G) Maleic Anhydride, Polymer With Alkyl Modified Alkene, Ammonium Salt.
P-14-0245 | 01/10/2014 | 04/10/2014 | CBI | (G) Semiconductor Additive | (G) Substituted Pyrene, Polymer With Bis(Alkoxyalkyl)Carbomonocycle And Substituted Carbopolycycle.
P-14-0246 | 01/13/2014 | 04/13/2014 | Shell Chemical LP | (S) Cleaning And Inks; Electronics; Other Solvents; Paint And Coating | (S) 2-Propanol, 1-Ethoxy-, 2-Acetate.
P-14-0247 | 01/13/2014 | 04/13/2014 | CBI | (G) Coatings For Water-Borne Base Coat | (G) Amine Salted Polyurethane.
P-14-0248 | 01/10/2014 | 04/10/2014 | CBI | (G) Highly Dispersive Use | (G) Modified Essential Oil.
P-14-0251 | 01/14/2014 | 04/14/2014 | Ethox Chemicals, LLC | (S) A Reactive Emulsifier For Manufacturing Aqueous Emulsion Polymers Or Alkyd Resins. Dispersant For Pigments In Aqueous Or Solvent-Based Coatings | (S) Poly(Oxy-1,2-Ethanediyl), Alpha-[1-(Phenoxymethyl)-2-(2-Propen-1-Yloxy)Ethyl]-Omega-Hydroxy-, Ar-Styrenated.
P-14-0252 | 01/14/2014 | 04/14/2014 | Ethox Chemicals, LLC | (S) A Reactive Emulsifier For Manufacturing Aqueous Emulsion Polymers Or Alkyd Resins. Dispersant For Pigments In Aqueous Or Solvent-Based Coatings | (S) Poly(Oxy-1,2-Ethanediyl), Alpha-[1-[1-(Phenoxymethyl)-2-(2-Propen-1-Yloxy)Ethoxy]Methyl]-2-(2-Propen-1-Yloxy)Ethyl]-Omega-Hydroxy-, Ar-Styrenated.
P-14-0253 | 01/14/2014 | 04/14/2014 | Ethox Chemicals, LLC | (S) A Reactive Emulsifier For Manufacturing Aqueous Emulsion Polymers Or Alkyd Resins. Dispersant For Pigments In Aqueous Or Solvent-Based Coatings | (S) Oxirane, 2-[(2-Propen-1-Yloxy)Methyl]-, Polymer With Oxirane, Mono(Dihydrogen Phosphate), Phenyl Ether, Styrenated, Ammonium Salts.
P-14-0254 | 01/14/2014 | 04/14/2014 | Ethox Chemicals, LLC | (S) A Reactive Emulsifier For Manufacturing Aqueous Emulsion Polymers Or Alkyd Resins. Dispersant For Pigments In Aqueous Or Solvent-Based Coatings | (S) Poly(Oxy-1,2-Ethanediyl), Alpha-Sulfo-Omega-[1-(Phenoxymethyl)-2-(2-Propen-1-Yloxy)Ethoxy]-, Ar-Styrenated, Ammonium Salts.
P-14-0255 | 01/14/2014 | 04/14/2014 | Ethox Chemicals, LLC | (S) A Reactive Emulsifier For Manufacturing Aqueous Emulsion Polymers Or Alkyd Resins. Dispersant For Pigments In Aqueous Or Solvent-Based Coatings | (S) Poly(Oxy-1,2-Ethanediyl), Alpha-Sulfo-Omega-[1-[[1-(Phenoxymethyl)-2-(2-Propen-1-Yloxy)Ethoxy]Methyl]-2-(2-Propen-1-Yloxy)Ethoxy]-, Ar-Styrenated Ammonium Salt.
P-14-0256 | 01/15/2014 | 04/15/2014 | CBI | (S) Led Lighting Applications | (S) Aluminum Yttrium Oxide, Cerium-Doped.
P-14-0257 | 01/15/2014 | 04/15/2014 | CBI | (G) The Substance Is Used To Formulate Finished Lubricant | (G) Branched Acid Ester With Hexafunctional Alcohol.
P-14-0258 | 01/15/2014 | 04/15/2014 | Pennzoil-Quaker State Company | (G) This PMN Substance Is Used As A Process Oil, A Technical White Oil Or Medicinal White Oil For Industrial And Commerical Applications | (G) Distillates (Fisher Tropsch) heavy, C18-C50.
P-14-0259 | 01/15/2014 | 04/15/2014 | Apollo Chem | (G) Processing Aid For Nylon | (G) Polyamide/Polyester.
P-14-0260 | 01/16/2014 | 04/16/2014 | American Pacific Corp | (S) Fire Extinguishing Agent For Niche Systems (Aircraft, Normally Unoccupied Systems, Scafes), Fire Extinguishing Agent For Portable Extinguishers (Onboard Aviation And All Non-Residential), Fire Extinguishing Streaming Systems For Aircraft Rescue Fire Fighting Vehicles | (S) 1-Propene, 2-Bromo-3,3,3-Trifluoro-.
P-14-0262 | 01/17/2014 | 04/17/2014 | CBI | (S) Led Lighting Applications | (S) Barium Europium Nitrogen Silicon Strontium Oxide.
P-14-0263 | 01/17/2014 | 04/17/2014 | CBI | (S) Self-Leveling Agent For Use With Epoxy Resins Applied To Concrete | (G) Polyamine Epoxy Resin Adduct.
P-14-0264 | 01/21/2014 | 04/21/2014 | Colonial Chemical, Inc | (S) Surfactant For Antifog Coating, Surfactant For Carpet Cleaning,Wetting Agent For Fiber Treatment | (S) D-Glucopyranose, Oligomeric, Decyl Octyl Glycosides, 3-(Dimethyloctadecylammonio)-2-Hydroxypropyl Ethers, Chlorides, Polmers With 1,3-Dichloro-2-Propanol.
P-14-0265 | 01/21/2014 | 04/21/2014 | Colonial Chemical, Inc | (S) Surfactant For Antifog Coating, Surfactant For Carpet Cleaning, Wetting Agent For Fiber Treatment | (S) D-Glucopyranose, Oligomeric, C10-16-Alkyl Glycosides, 3-(Dimethyloctadecylammonio)-2-Hydroxypropyl Ethers, Chlorides, Polymers With 1,3-Dichloro-2-Propanol.
P-14-0266 | 01/21/2014 | 04/21/2014 | CBI | (G) Functions As An Oil-Soluble Corrosion Inhibitor For Use In Oil And Gas Wells And Pipelines | (G) Tall Oil Fatty Acid Diethylenetriamine Compds. With Substituted Polyethylene Glycol Ether.
P-14-0267 | 01/21/2014 | 04/21/2014 | CBI | (G) Destructive | (S) Poly(Oxy-1,2-Ethanediyl), Alpha-[ [ (3-Isocyanatomethylphenyl)Amino]Carbonyl]-Omega-Methoxy-.
P-14-0268 | 01/21/2014 | 04/21/2014 | CBI | (G) Destructive | (S) Carbamic Acid, N-(3-Isoocyanatomethylphenyl)-, 2-[2-(2-Butoxyethoxy)Ethoxy]Ethyl Ester.
P-14-0269 | 01/22/2014 | 04/22/2014 | CBI | (S) Melt Processing, E.G. Injection Molding, Compounding, And Extrusion To Produce Finished Articles | (G) Peek-Pedek Copolymer; Methanone, Bis(4-Fluorophenyl)-, Polymer With 1,4-Benzenediol And [1,1′-Biphenyl]-4,4′-Diol.
P-14-0270 | 01/23/2014 | 04/23/2014 | DIC International (USA) LLC | (G) Binder Resin For Electronic Materials, Matrix Resin For Composite Materials | (G) Multi-Functional Novolac Type Epoxy Resin.
P-14-0271 | 01/25/2014 | 04/25/2014 | CBI | (G) Intermediate | (G) Fatty Acid Amidoamine.
P-14-0272 | 01/25/2014 | 04/25/2014 | CBI | (G) Intermediate | (G) Fatty Acid Amidoamine.
P-14-0273 | 01/25/2014 | 04/25/2014 | CBI | (G) Intermediate | (G) Fatty Acid Amidoamine.
P-14-0274 | 01/25/2014 | 04/25/2014 | CBI | (G) Intermediate | (G) Fatty Acid Amidoamine.
P-14-0275 | 01/25/2014 | 04/25/2014 | CBI | (G) Intermediate | (G) Fatty Acid Amidoamine.
P-14-0283 | 01/27/2014 | 04/27/2014 | CBI | (G) Printing Ink | (G) Polyamid Resin.
P-14-0284 | 01/27/2014 | 04/27/2014 | CBI | (G) Coloring Agent | (G) Magenta Dye.
P-14-0285 | 01/28/2014 | 04/28/2014 | Compass Chemical International LLC | (G) {Subsurface Chemical Injection Valves, Side Pocket Mandrels And | (G) Aminophosphonate Salt.
P-14-0286 | 01/27/2014 | 04/27/2014 | DIC International (USA) LLC | (G) Hot Melt Adhesive | (G) Polyester-Type Polyurethane Hot Melt Resin.
P-14-0287 | 01/27/2014 | 04/27/2014 | CBI | (G) Additive In Metal Working Fluids | (G) Butanedioic Acid, Mono(Mixed Hexadecen-1-Yl And Polyisobutylene) Derivates, Alkyl Esters.
P-14-0288 | 01/30/2014 | 04/30/2014 | DIC International (USA) LLC | (G) Coating Raw Material | (G) Polymer Of Aliphatic Hydrocarbon Acrylic Acid Esters, Isocyanic Acid Derivative And Alkyl Perester With Alkyl Amine.
P-14-0289 | 01/30/2014 | 04/30/2014 | DIC International (USA) LLC | (G) Binder Resin For Electronic Materials,(G) Matrix Resin For Composite Materials | (G) Multi Functional Novolac Type Epoxy Resin.
P-14-0290 | 01/30/2014 | 04/30/2014 | CBI | (G) Emulsifier | (G) Fatty Acid Amidoamine Maleates.
P-14-0291 | 01/30/2014 | 04/30/2014 | CBI | (G) Emulsifier | (G) Fatty Acid Amidoamine Maleates.
P-14-0292 | 01/30/2014 | 04/30/2014 | CBI | (G) Emulsifier | (G) Fatty Acid Amidoamine Maleates.
P-14-0293 | 01/30/2014 | 04/30/2014 | CBI | (G) Emulsifier | (G) Fatty Acid Amidoamine Maleates.
P-14-0294 | 01/30/2014 | 04/30/2014 | CBI | (G) Emulsifier | (G) Fatty Acid Amidoamine Maleates.
P-14-0295 | 01/30/2014 | 04/30/2014 | CBI | (G) Emulsifier | (G) Fatty Acid Amidoamine Maleates.
P-14-0296 | 01/31/2014 | 05/01/2014 | NOWILLC | (G) Lubricants And Lubricating Base Stock | (G) Highly Branched Isoparaffinic Hydrocarbons.
P-14-0297 | 01/31/2014 | 05/01/2014 | NOWILLC | (G) Lubricants And Lubricating Base Stock | (G) Highly Branched Isoparaffinic Hydrocarbons.
P-14-0298 | 01/31/2014 | 05/01/2014 | NOWILLC | (G) Lubricants And Lubricating Base Stock | (G) Highly Branched Isoparaffinic Hydrocarbons.
P-14-0299 | 01/31/2014 | 05/01/2014 | NOWILLC | (G) Lubricants And Lubricating Base Stock | (G) Highly Branched Isoparaffinic Hydrocarbons.

In Table II. of this unit, EPA provides the following information (to the extent that such information is not claimed as CBI) on the NOCs received by EPA during this period: The EPA case number assigned to the NOC, the date the NOC was received by EPA, the projected end date for EPA's review of the NOC, and chemical identity.

Table II—106 NOCs Received From 10/01/13 to 1/30/14
Case No. | Received date | Commencement notice end date | Chemical
J-13-0010 | 11/10/2013 | 10/21/2013 | (G) Modified Saccharomyces Cerevisiae.
P-00-1086 | 10/29/2013 | 10/10/2013 | (S) Silanamine, 1,1,1-Trimethyl-N-(Trimethylsilyl)-, Potassium Salt.
P-05-0324 | 12/09/2013 | 11/14/2013 | (S) 1,2,3-Propanetricarboxylic Acid, 2-Hydroxy-, Cerium(3+) Salt (1:1).
P-09-0164 | 11/05/2013 | 10/17/2013 | (S) 2-Propenoic Acid, Telomer With 3-Mercaptopropanoic Acid, Sodium Salt.
P-09-0448 | 12/23/2013 | 12/17/2013 | (G) Sodium C20-24 Branched Olefin Sulfonate.
P-11-0053 | 01/23/2014 | 01/20/2014 | (G) Substituted Alkanoic Acid, Polymer With Alkanediol And Cyclic Ether, Alkanoate.
P-11-0132 | 11/01/2013 | 10/21/2013 | (G) Polyether Urethane.
P-11-0135 | 12/19/2013 | 11/23/2013 | (G) Benzoic Acid Ester.
P-11-0347 | 12/06/2013 | 10/08/2013 | (S) Benzeneamine, N, N, 4-Trimethyl, N-Oxide.
P-11-0529 | 11/18/2013 | 10/20/2013 | (G) Polyfluorinated Alkyl Thio Acrylamide.
P-11-0530 | 11/18/2013 | 10/20/2013 | (G) Polyfluorinated Alkyl Thio Polyacrylamide.
P-11-0532 | 11/18/2013 | 10/20/2013 | (G) Polyfluorinated Alkyl Amine.
P-12-0179 | 12/20/2013 | 12/16/2013 | (S) Hexanedioic Acid, Polymer With 1,4-Butanediol, 1,2-Ethanediamine, 1,6-Hexanediol, 3-Hydroxy-2-(Hydroxymethyl)-2-Methylpropanoic Acid, 5-Isocyanato-1-(Isocyanatomethyl)-1,3,3-Trimethylcyclohexane And 1,1′-Methylenebis [4-Isocyanatocyclohexane], Compound With N,N-Diethylethanamine.
P-12-0307 | 01/28/2014 | 01/11/2014 | (G) Fatty Acid Modified Polyethylene Terephthalate Polyester Resin.
P-12-0387 | 11/18/2013 | 11/06/2013 | (G) Modified Polyester.
P-12-0400 | 01/28/2014 | 01/20/2014 | (G) Neutralized Epoxy Phosphate.
P-12-0401 | 01/28/2014 | 01/23/2014 | (G) Amine Salt Of Polyester Resin.
P-12-0466 | 01/27/2014 | 01/27/2014 | (G) Ethylbenzene Butadiene Acrylate Polymer.
P-12-0556 | 11/06/2013 | 10/14/2013 | (S) Tires, Wastes, Pyrolyzed, Carbon Black Fraction.
P-12-0565 | 11/26/2013 | 11/12/2013 | (G) Aromatic Polyester.
P-12-0570 | 10/28/2013 | 10/22/2013 | (S) Bicyclo[2.2.1]Hept-5-Ene-2-Carboxylic Acid, Ethyl Ester.
P-12-0572 | 12/05/2013 | 11/26/2013 | (G) Aromatic Amine With Cyclo Amino Carbonyls.
P-12-0577 | 01/29/2014 | 01/22/2014 | (G) Glycerides, C14-C18, C16-C18 Unsaturated, From Fermentation of Algae Using Fermentable Sugars.
P-13-0082 | 12/19/2013 | 12/10/2013 | (G) Acrylic Modified Polyether-Ester Polyurethane Prepolymer.
P-13-0091 | 10/04/2013 | 09/25/2013 | (G) Siloxane Functional Polybutadiene Polymer.
P-13-0107 | 01/28/2014 | 01/17/2014 | (S) Alkanes, C22-30-Branched And Linear, Chloro.
P-13-0128 | 11/04/2013 | 10/21/2013 | (G) Polyether Modified Potassium Polystyrene Maleate.
P-13-0129 | 11/01/2013 | 10/21/2013 | (G) Polyether Modified Fatty Acid Dimer.
P-13-0133 | 11/20/2013 | 10/22/2013 | (S) Phosphorane, Pentachloro-, Polymer With Ammonium Chloride ((NH4)Cl).
P-13-0145 | 11/20/2013 | 11/05/2013 | (G) 2,5-Furandione, Polymer With Alkene And Alkyldiamine.
P-13-0168 | 11/12/2013 | 10/29/2013 | (G) Alkylphenol.
P-13-0175 | 01/21/2014 | 01/13/2014 | (S) Hexane, 1,6-Diisocyanato-, Homopolymer, .Alpha.-[1-[[[3-[[3-(Dimethylamino)Propyl]Amino]Propyl]Amino]Carbonyl]-1,2,2,2-Tetrafluoroethyl]-.Omega.-(1,1,2,2,3,3,3-Heptafluoropropoxy)Poly[Oxy[Trifluoro(Trifluoromethyl)-1,2-Ethanediyl]]-Blocked.
P-13-0187 | 01/29/2014 | 01/22/2014 | (G) Algal Biomass From Fermentation.
P-13-0250 | 12/16/2013 | 11/27/2013 | (G) Oxiranylpropyl Silsesquioxanes Hydroxy Terminated.
P-13-0267 | 11/12/2013 | 11/09/2013 | (G) Fatty Acid Amine.
P-13-0270 | 11/21/2013 | 11/20/2013 | (G) Aromatic Dibenzoate.
P-13-0272 | 10/15/2013 | 09/25/2013 | (G) Polyester Polyol.
P-13-0279 | 11/04/2013 | 10/21/2013 | (G) Poly(Ethylenoxide-Co-(2-Ethylhexyl)Glycidether-Co-Cresylglycidether).
P-13-0299 | 11/13/2013 | 10/16/2013 | (G) Furandione Derivative Reaction Products.
P-13-0300 | 12/06/2013 | 11/06/2013 | (S) 4,7-Methano-1H-Indene-2,6-Dicarboxylic Acid, 3a,4,7,7a-Tetrahydro-.
P-13-0312 | 10/30/2013 | 10/25/2013 | (G) Acrylic Polymer, Sodium Salt.
P-13-0330 | 09/30/2013 | 09/23/2013 | (G) Fatty Acids, C18, Dimers, Dialkyl Esters, Hydrogenated, Polymers With Alkanedioic Acid, 1,3-Bis-(Isocyanato-1-Alkyl)Benzene, 3-Hydroxy-2-(Hydroxymethyl)-2-Alkylpropenoic Acid, 1,1′-Methylenebis [Isocyanatocycloalkane], Neopentyl Glycol And Oxepanone Compds. With Trialkyl Amine.
P-13-0344 | 01/23/2014 | 01/21/2014 | (G) Acrylate Copolymer.
P-13-0347 | 10/04/2013 | 10/02/2013 | (G) Aromatic Sulfonamide Polyether.
P-13-0348 | 10/04/2013 | 09/25/2013 | (G) Polyether Substituted Azo Colorant.
P-13-0349 | 10/04/2013 | 09/27/2013 | (G) Polyether Substituted Azo Colorant.
P-13-0356 | 01/13/2014 | 12/22/2013 | (G) Aliphatic Diol , Polymer With Polymeric Diol ,Aliphatic Diisocyanate And Aliphatic Diol.
P-13-0371 | 10/04/2013 | 10/02/2013 | (G) Substituted Phenylsulfonamide Compound.
P-13-0372 | 11/07/2013 | 10/26/2013 | (G) Polyether Polyurethane.
P-13-0389 | 11/04/2013 | 10/07/2013 | (G) Alkenyl Ether.
P-13-0391 | 12/12/2013 | 11/30/2013 | (G) Halogenated Phenylboronic Acid.
P-13-0396 | 11/06/2013 | 10/25/2013 | (G) Hydroxyalkylamide.
P-13-0409 | 11/19/2013 | 11/08/2013 | (G) Carboxylic Acid, Ammonium Salt.
P-13-0424 | 10/28/2013 | 10/19/2013 | (S) Furan, 2,3,3,4,4-Pentafluorotetrahydro-5-Methoxy-2,5-Bis[1,2,2,2-Tetrafluoro-1-(Trifluoromethyl)Ethyl]-.
P-13-0431 | 12/03/2013 | 11/23/2013 | (G) 2-Propenoic Acid, 2-Methyl-, Polymers With Alkyl Acrylates And Polyethylene Glycol Methacrylate Alkyl Ethers.
P-13-0438 | 10/17/2013 | 10/16/2013 | (G) Tetrafluoro Acrylates Copolymer With Polyoxy Methyl Derivatives.
P-13-0439 | 10/08/2013 | 09/30/2013 | (G) Fatty Acid Piperidinyl Esters.
P-13-0453 | 11/22/2013 | 10/25/2013 | (S) Formaldehyde, Polymer With 2,3-Diemethylphenol, 2,4-Dimethylphenol, 2,5-Dimethylphenol, 3,5-Dimethylphenol, 3-Ethylphenol, 4-Ethylphenol, 3-Methylphenol, 4-Methylphenol and Phenol.
P-13-0458 | 09/30/2013 | 09/20/2013 | (G) Substituted Carbopolycycle, Polymer With Substituted Carbomonocycle, Alkanoic Acid Ester And Tetrasubstituted Alkane-Blocked.
P-13-0462 | 11/18/2013 | 11/10/2013 | (G) Substituted Alkanoic Acid Ester, Polymer With Substituted Alkenoate, Alkenoate, Substituted Peroxoate-Initiated.
P-13-0463 | 09/30/2013 | 09/11/2013 | (G) Substituted Polysiloxane.
P-13-0465 | 09/30/2013 | 09/20/2013 | (G) Substituted Benzotriazole.
P-13-0466 | 09/30/2013 | 09/16/2013 | (G) Substituted Polysiloxane.
P-13-0473 | 10/07/2013 | 10/02/2013 | (G) Tin(2+) Salt Of Alkylcarboxylic Acid.
P-13-0514 | 10/01/2013 | 09/30/2013 | (G) Alkyl Carboxylic Acid, Hydroxy-(Hydroxyalkyl) Polymer With Methylenebis[Isocyanatocycloalkane], Ditetrahydroxyalkane, Pentaacrylate-Blocked, Compds. With Alkylmorpholine.
P-13-0515 | 10/01/2013 | 09/30/2013 | (G) Alkyl Carboxylic Acid, Hydroxy-(Hydroxyalkyl), Polymer With Diisocyanatoalkane, Alkyldiamine and Methylenebis[Isocyanatocycloalkane], Tetrahydroxyalkane Triacrylate-Blocked, Compds. With Trialkylamine.
P-13-0560 | 10/22/2013 | 10/21/2013 | (S) Butyl 3-Hydroxybutyrate.
P-13-0567 | 10/21/2013 | 09/25/2013 | (G) Ester Wax.
P-13-0572 | 10/18/2013 | 10/28/2013 | (S) Benzoic Acid, 3,4-Diamino-,Polymer.
P-13-0575 | 10/08/2013 | 09/18/2013 | (G) Phosphonic Acid.
P-13-0615 | 11/04/2013 | 10/17/2013 | (S) Octadecanedioic Acid, 1,18-Dimethyl Ester.
P-13-0617 | 12/18/2013 | 12/17/2013 | (G) Aromaticdicarboxylic Acid Polymer With Alkanediol, Alkyl Alkyl-2-Alkenoate, 1,4-Dialkyl Aromaticdicarboxylate, Alkanedioc Acid, Alkanedioc Acid, Alkanediol, .Alpha.-Hydro-.Omega.-Hydroxypoly[Oxy(Alkyll-Alkanediyl)], Hydroxyalkyl 2-Alkyl-2-Alkenoate, Aromatic Diisocyanate, Alkyl 2-Alkyl-2-Alkenoate And 2-Alkyl-2-Alkenoic Acid.
P-13-0618 | 12/18/2013 | 12/17/2013 | (G) Alkanedioic Acid, Polymer With Alkyl 2-Alkyl-2-Alkenoate, Alkanedioic Acid, Alkanediol, .Alpha.-Hydro-.Omega.-Hydroxypoly[Oxy(Alkyl-1 2-Alkanediyl)], Hydroxyalkyl 2-Alkyl-2-Alkenoate, Aromatic Diisocyanate, Alkyl 2-Alkyl-2-Alkenoate And 2-Alkyl-2-Alkenoic Acid.
P-13-0626 | 10/02/2013 | 09/30/2013 | (G) Alkenylic Acid, Alkyl Ester, Polymer With Alkylaminoalkyl Alkenamide And Alkenyl Benzene, Ester With Alkyl Ethylene Glycol, Compound With Chlorochloroalkyl Benzene.
P-13-0655 | 12/19/2013 | 12/10/2013 | (G) Acrylic Modified Polyether-Polyester Prepolymer.
P-13-0657 | 10/24/2013 | 10/02/2013 | (S) 3,6,7-Trimethyl-2,6-Octadienal.
P-13-0673 | 01/24/2014 | 01/19/2014 | (S) Pyrrolidinium, 1-Butyl-1-Methyl-, Tetrakis(Cyano-Kc)Borate(1-) (1:1).
P-13-0680 | 11/04/2013 | 10/07/2013 | (S) 9-Octadecenedioic Acid, 1,18-Dimethyl Ester.
P-13-0725 | 12/12/2013 | 12/11/2013 | (G) Alkanedioc Acid, Polymer With Substituted Oxirane Polymer With Substituted Carbomonocyle, Di-Substituted Alkane, Substituted Alkanoic Acid, Substituted Cycloalkane and Substituted Alkoxylated Glycerol.
P-13-0747 | 01/23/2014 | 01/14/2014 | (S) Phosphorous Acid, Mixed 2,4-Bis (1-Methyl-1-Phenylethyl)Phenyl And Isodecyl And 2-(1-Methyl-1-Phenylethyl)Phenyl And 4-(1-Methyl-1-Phenylethyl)Phenyl And Phenol Triesters.
P-13-0754 | 11/06/2013 | 10/23/2013 | (G) Lcap C16-C18, 1048199.
P-13-0768 | 01/13/2014 | 12/20/2013 | (G) Phenol, (Alkylidene)Bis-, Polymer With (Chloroalkyl)Oxirane, Alkenoate, Bis(Hydroxyalkyl)Alkanoic Acid, Hydroxyalkylacrylate, Alkyl Polyalkylene Glycol, Benzenedicarboxylic Acid, Polymer With Alkanedioic Acid and Alkanediol, Alkanediol, Alkane, Diisocyanato-, Homopolymer, Isocyanatoalkyltrialkylcycloalkyl Isocyanate And Alkylene Diisocyanate.
P-13-0769 | 01/17/2014 | 12/30/2013 | (G) Calcium Salt Of Aldehyde Resins.
P-13-0773 | 11/08/2013 | 11/08/2013 | (S) 4-Pyrimidianamine, 2,5 Dimethoxy.
P-13-0781 | 12/11/2013 | 12/10/2013 | (S) (4-Bromobutoxy) Benzene.
P-13-0786 | 11/27/2013 | 11/27/2013 | (G) Substituted Alkylsilanes, Reaction Products With Aluminum, Metal Oxide, Silica and Tin Oxide (Sno2).
P-13-0787 | 01/09/2014 | 12/20/2013 | (S) Benzenamine, 2-Ethyl-N-[(1S)-2-Methoxy-1-Methylethyl]-6-Methyl-.
P-13-0788 | 12/06/2013 | 12/04/2013 | (G) Substituted Alkanediol, Polymer With Heteromonocycles, Substituted Carbomonocycle Alkenoate, Reaction Products With Dialkylamine.
P-13-0789 | 12/06/2013 | 12/04/2013 | (G) Substituted Alkanediol, Polymer With Heteromonocycles, Substituted Carbomonocycle Alkenoate, Reaction Products With Dialkylamine.
P-13-0804 | 12/11/2013 | 11/23/2013 | (S) Surfactin, Sodium Salt.
P-13-0805 | 12/02/2013 | 11/22/2013 | (G) Sulfuric Acid, Diethyl Ester, Compd. With Alkanolamine Polymer With Alpha-Hydro-Omega-Hydroxypoly(Oxy-1,4-Butanediyl) and 5-Isocanato-1-(Isocyanatomethyl)-1,3,3-Trimethylcyclohexane Acetate (Salt) Ethyl Sulfate (Salt) Phosphate (Salt).
P-13-0806 | 01/02/2014 | 12/16/2013 | (S) Butanedioic Acid, 1-[ (1R, 2S, 5R)-5-Methyl-2-(1-Methylethyl) Cyclohexyl ] Ester.
P-13-0807 | 12/09/2013 | 11/27/2013 | (G) Calcium Alkyl Salicylate.
P-13-0822 | 01/28/2014 | 01/14/2014 | (G) Polyether Modified Acrylic Ester Polymer With Dimethylamino Groups.
P-13-0836 | 12/11/2013 | 12/05/2013 | (G) Alkyl Carbonyl Alkyl Ether Metal Complex.
P-13-0840 | 11/11/2013 | 11/08/2013 | (S) D-Glucopyranose, Oligomeric, Decyl Octyl Glycosides, Polymers With Epichlorohydrin and Sorbitan Monooleate.
P-13-0846 | 12/12/2013 | 12/11/2013 | (G) Substituted Alkanoic Acid, Compds. With Substituted Dialkylene-Substituted Carbomonocycle- Substituted Alkanediamine-Substituted Heteromonocycle-Polyalkylene Glycol-Substituted Dialkanol-Substituted Carbomonocycle Reaction Products.
P-13-0847 | 12/12/2013 | 12/11/2013 | (G) Heteropolycycle, Polymer With Substituted Heteromonocycle, Polyalkylene Glycol And Substituted Carbomonocycle.
P-13-0856 | 12/05/2013 | 12/04/2013 | (G) Soybean Oil, Polymer With Benzoic Acid, Substituted Diol, Alkanediol, Glycerol, Phthalic Anhydride, Substituted Diol, Sorbitol, Terephthalic Acid, Substituted Diol and Substituted Diol.
P-13-0862 | 12/22/2013 | 12/17/2013 | (G) Aromatic Dicarboxylic Acid, Polymers With Aliphatic Polyols And Substituted Alkenes.
P-13-0869 | 01/02/2014 | 12/16/2013 | (S) 2-Cyclohexen-1-Ol, 2,6-Dimethyl-4-(2,2,3-Trimethyl-3 Cyclopenten-1-Yl)-.
P-13-0881 | 01/29/2014 | 01/22/2014 | (S) Oils, Patchouli, Patchoulol Synthase-Modified Saccharomyces Cerevisiae-Fermented, From Carbohydrates.
P-13-0925 | 12/19/2013 | 12/19/2013 | (S) 11,18-Dioxa-2,9,20,27-Tetraazaoctacosanedioic Acid, 10,19-Dioxo-,1,28-Bis[4-(Ethenyloxy)Butyl] Ester.
P-13-0934 | 01/29/2014 | 01/25/2014 | (G) Polyether Polyurethane Polymer.
P-14-0005 | 01/29/2014 | 01/18/2014 | (G) Acrylonitrile-Acrylate Copolymer.
P-97-0538 | 01/23/2014 | 01/01/2014 | (S) 2-Propeneitrile, Reaction Products With Oleylamine, Hydrogenated.

If you are interested in information that is not included in these tables, you may contact EPA as described in Unit III. to access additional non-CBI information that may be available.

List of Subjects

Environmental protection, Chemicals, Hazardous substances, Imports, Notice of commencement, Premanufacturer, Reporting and recordkeeping requirements, Test marketing exemptions.

Dated: June 5, 2014.
Chandler Sirmons,
Acting Director, Information Management Division, Office of Pollution Prevention and Toxics.

[FR Doc. 2014-15764 Filed 7-3-14; 8:45 am]

BILLING CODE 6560-50-P